DEPARTMENT OF HOMELAND SECURITY

Coast Guard

33 CFR Part 117

[USCG-2008-0476]

Drawbridge Upper Mississippi River, Clinton, IA; Repair and Maintenance

AGENCY: Coast Guard, DHS.

ACTION: Notice of temporary deviation from regulations.

SUMMARY: The Commander, Eighth Coast Guard District has issued a temporary deviation from the regulation governing the operation of the Clinton Railroad Drawbridge, Mile 518.0, Clinton, Iowa, across the Upper Mississippi River. The deviation is necessary for the bridge to remain closed-to-navigation for intermittent periods of up to 1 hour and 30 minutes in duration, allowing the bridge owner time to perform necessary repairs to the bridge approaches and adjacent rail bed.

DATES: This deviation is effective from 6 a.m. to 8 p.m., July 1, 2008, through July 8, 2008, and from 6 a.m. to 8 p.m., July 16, 2008, through July 22, 2008.

ADDRESSES: Documents indicated in this preamble as being available in the docket are part of docket USCG-2008-0476 and are available online at www.regulations.gov. They are also available for inspection or copying at two locations: The Docket Management Facility (M-30), U.S. Department of Transportation, West Building Ground Floor, Room W12-140, 1200 New Jersey Avenue, SE., Washington, DC 20590, between 9 a.m. and 5 p.m., Monday through Friday, except Federal holidays, and the Robert A. Young Federal Building, Room 2.107F, 1222 Spruce Street, St. Louis, MO 63103-2832, between 8 a.m. and 4 p.m., Monday through Friday, except Federal holidays.

FOR FURTHER INFORMATION CONTACT: Roger K. Wiebusch, Bridge Administrator, (314) 269-2378.

SUPPLEMENTARY INFORMATION: The Union Pacific Railroad Company requested a temporary deviation for the Clinton Railroad Drawbridge, mile 518.0, at Clinton, Iowa, across the Upper Mississippi River; to intermittently remain in the closed-to-navigation position for periods of up to 1 hour and 30 minutes in duration to facilitate needed maintenance and repairs. The Clinton Railroad Drawbridge currently operates in accordance with 33 CFR 117.5, which states the general requirement that drawbridges shall open promptly and fully for the passage of vessels when a request to open is given in accordance with the subpart. In order to facilitate the needed work, the drawbridge must be kept in the closed-to-navigation position. This deviation allows the bridge to intermittently remain in the closed-to-navigation position for periods of up to 1 hour and 30 minutes in duration, from 6 a.m. to 8 p.m., July 1, 2008, through July 8, 2008, and from 6 a.m. to 8 p.m., July 16, 2008, through July 22, 2008.

There are no alternate routes for vessels transiting this section of the Upper Mississippi River.

The Clinton Railroad Drawbridge, in the closed-to-navigation position, provides a vertical clearance of 18.7 feet above normal pool. Navigation on the waterway consists primarily of commercial tows and recreational watercraft. This temporary deviation has been coordinated with waterway users. No objections were received.

In accordance with 33 CFR 117.35(e), the drawbridge shall return to its regular operating schedule immediately at the end of the designated time period. This deviation from the operating regulations is authorized under 33 CFR 117.35.

Dated: June 2, 2008.
Roger K. Wiebusch,
Bridge Administrator.

[FR Doc. E8-13085 Filed 6-10-08; 8:45 am]

BILLING CODE 4910-15-P